DEPARTMENT OF THE INTERIOR

Bureau of Land Management

[AK-024-05-1610-DU-WMRA]

Notice of Intent To Prepare Plan Amendment for the 1986 White Mountains National Recreation Area Resource Management Plan (RMP)

AGENCY: Northern Field Office, Bureau of Land Management, Fairbanks, Alaska.

ACTION: Notice of intent.

SUMMARY: This document provides notice that the Bureau of Land Management (BLM) intends to prepare an RMP amendment for the White Mountains National Recreation Area. The amendment will fulfill the needs and obligations set forth by the National Environmental Policy Act (NEPA), the Federal Land Policy and Management Act (FLPMA), and BLM management priorities. The BLM will work closely with interested parties to identify the management decisions that are best suited to local, regional and national needs and concerns. The public scoping will be used to identify planning issues and develop planning criteria.

DATES: The scoping comment period will commence with the publication of this notice. Formal scoping will end 60 days after publication of this notice.

Public Participation: Comments on issues and planning criteria should be submitted in writing and should be received on or before the end of the scoping period at the address listed below. One public meeting will be held in Fairbanks during the scoping and preparation period. The meeting will be announced through local news media and the BLM Web site (http://aurora.ak.blm.gov/) at least 15 days prior to the meeting.

ADDRESSES: Written comments should be sent to: Northern Field Office, Bureau of Land Management, 1150 University Avenue, Fairbanks, Alaska 99709-3844, attention Lon Kelly.

FOR FURTHER INFORMATION CONTACT: For further information and/or to have your name added to our mailing list, contact Lon Kelly, telephone (907) 474-2368.

SUPPLEMENTARY INFORMATION: The RMP for the White Mountains National Recreation Area was signed in 1986. The planning area is approximately 60 miles northwest of Fairbanks, Alaska, and encompasses approximately 1,000,000 acres of public lands within the recreation area and approximately 20,000 acres of public lands outside of the Recreation Area. There are approximately 160 acres of private lands within the Recreation Area. A recent evaluation of the RMP found issues related to several existing land use plan allocations that will require an amendment to the RPM in order to be changed. These resource use allocations include: (1) Areas designated for off-highway vehicle use are not meeting RMP objectives and need to be reevaluated, (2) two transportation corridors were prescribed in the RMP but only one corridor was established. The second corridor was replaced by the Nome Creek Gateway project. The plan should be updated to reflect the change, (3) there are other issues affecting this planning area including, (a) federally managed lands exist within the planning area boundaries but were not included in or covered by the RMP, (b) there has been a change in Federal subsistence regulations since the RMP was completed, (c) ownership patterns in the area have changed due to the completion of State and native selections, and (d) fire management policy. Other issues may be considered depending on public input. Additional issues to be addressed in this amendment can be submitted to the BLM by interested agencies, groups, and individuals throughout the planning process. Documents pertinent to this amendment may be examined at the Northern Field Office located in Fairbanks, Alaska. Comments, including names and street addresses of respondents, will be available for public review at the Northern Field Office during regular business hours 7:45 a.m. to 4:30 p.m., Monday through Friday, except holidays, and may be published as part of the EA. Individual respondents may request confidentiality.

If you wish BLM to withhold your name or street address from public review or from disclosure under the Freedom of Information Act, you must state this prominently at the beginning or your written comment. Such requests will be honored to the extent allowed by law. All submissions from organizations and businesses, and from individuals identifying themselves as representatives or officials of organizations or businesses, will be available for public inspection in their entirety.

Robert Schneider,
Field Manager.

[FR Doc. 05-5018 Filed 3-14-05; 8:45 am]

BILLING CODE 4310-JA-P